DEPARTMENT OF LABOR

Employment and Training Administration

Employment and Training Administration (ETA) Program Year (PY) 2022 Workforce Innovation and Opportunity Act (WIOA) Section 167, National Farmworker Jobs Program (NFJP) Grantee Allotments

AGENCY: Employment and Training Administration, Labor.

ACTION: Notice; request for comments.

SUMMARY: This Notice announces allotments for Program Year (PY) 2022 for the National Farmworker Jobs Program (NFJP).

DATES: The PY 2022 NFJP allotments become effective for the grant period that begins July 1, 2022. Written comments on this notice are invited and must be received on June 3, 2022.

ADDRESSES: Comments are accepted via email to NFJP@dol.gov. Please enter “PY22 National Farmworker Jobs Program Grantee Allotments Public Comment” in the subject line of the email.

FOR FURTHER INFORMATION CONTACT: Steven Rietzke, Division Chief of National Programs, Tools, and Technical Assistance, (202) 693-3912, Rietzke.Steven@dol.gov.

SUPPLEMENTARY INFORMATION: This notice is published pursuant to Section 182(d) of the WIOA, Prompt Allotment of Funds.

I. Background

The Department is announcing final PY 2022 allotments for the NFJP. This notice provides information on the amount of funds available during PY 2022 to state service areas awarded through the PY 2020 Funding Opportunity Announcement (FOA) for the NFJP Career Services and Training and Housing Grants. The allotments are based on the funds appropriated in the Consolidated Appropriations Act, 2022, Public Law 117-103 (from this point forward will be referred to as the “the Act”).

In appropriating these funds, Congress provided $88,283,000 for formula grants (of which $88,160,000 was allotted after $123,000 was set aside for program integrity), $6,456,000 for migrant and seasonal farmworker housing (of which $6,447,000 was allotted after $9,000 was set aside for program integrity and of which not less than 70 percent shall be for permanent housing), and another $657,000 was set aside for discretionary purposes. The Housing grant allotments are distributed as a result of a competition and according to language in the appropriations law requiring that of the total amount available, not less than 70 percent shall be allocated to permanent housing activities, leaving not more than 30 percent to temporary housing activities.

This Notice includes the following sections:

• Section II of this notice provides a discussion of the data used to populate the formula.

• Section III describes the hold-harmless provision for the implementation year.

• Section IV describes minimum funding provisions to address State service areas that would receive less than $60,000.

• Section V describes the application of the formula and the hold-harmless provision using preliminary planning estimates for PY 2022.

II. Description of Data Files and Allotment Formula

As with all state planning estimates since 1999, the PY 2022 estimates are based on four data sources: (1) State-level, 2017 hired farm labor expenditure data from the United States Department of Agriculture's (USDA) Census of Agriculture (COA); (2) regional-level, 2017 average hourly earnings data from the USDA's Farm Labor Survey; (3) regional-level, 2010-2018 demographic data from the ETA's National Agricultural Workers Survey (NAWS); and, (4) 2015-2019 (5-year file) data from the United States Census Bureau's American Community Survey (ACS).

The formula's original methodology is described in the Federal Register notice (64 FR 27390, May 19, 1999). In PY 2018, ETA incorporated two modifications to the allotment formula to provide more accurate estimates of each state service area's relative share of persons eligible for the program. The formula also used updated data from each of the four data files serving as the basis of the formula since 1999. The revised formula methodology is described in the Federal Register notice (83 FR 32151, July 11, 2018). In PY 2021, ETA incorporated two modifications to the allotment formula. These modifications are described in Federal Register notice (86 FR 32063, June 16, 2021). The Federal Register notices are accessible at https://www.federalregister.gov/.

The Department will continue to apply the modifications that were incorporated in the PY 2021 allotments to the PY 2022 allotments, including the expansion to include farmworkers who are in families with total family incomes at or below 150 percent of the poverty line rather than the higher of the poverty line or 70 percent of the lower living standard income level. ETA will subsequently revise the PY 2023 guidance regarding the definition of “low-income individual,” as needed if the same provision is not included in subsequent appropriations.

III. Description of the Hold-Harmless Provision

ETA will continue the hold-harmless provision as instituted in PY 2018. The hold-harmless provision provides for a stop loss/stop gain limit to transition to the use of the updated data. This approach is based on a state service area's previous year's allotment percentage, which is its relative share of the total formula allotments. The stop gain provision provides that no state service area will receive an amount that is more than 150 percent of their previous year's allotment percentage. The staged transition of the hold-harmless provision is as follows:

(1) In PY 2021, each state service area received an amount equal to at least 95 percent of their PY 2020 allotment percentage, as applied to the PY 2021 formula funds available.

(2) In PY 2022, each state service area will receive an amount equal to at least 90 percent of their PY 2021 allotment percentage, as applied to the PY 2022 formula funds available.

(3) In PY 2023, each state service area will receive an amount equal to at least 85 percent of their PY 2022 allotment percentage, as applied to the PY 2023 formula funds available.

In PY 2024, since the Department has a responsibility to use the most current and reliable data available, amounts for the new awards will be based on updated data from the sources described in Section II, pending their availability. At that time, the Department will determine whether the changes to state allotments are significant enough to warrant another hold-harmless provision. Otherwise, allotments to each state service area will be for an amount resulting from a direct allotment of the proposed funding formula without adjustment.

IV. Minimum Funding Provisions

A state area that would receive less than $60,000 by application of the formula will, at the option of the DOL, receive no allotment or, if practical, be combined with another adjacent state area. Funding below $60,000 is deemed insufficient for sustaining an independently administered program. However, if practical, a state jurisdiction that would receive less than $60,000 may be combined with another adjacent state area.

V. Program Year 2022 Preliminary State Allotments

The state allotments set forth in the Table appended to this notice reflect the distribution resulting from the allotment formula described above. For PY 2021, $86,946,000 was appropriated for career services and training grants, $6,256,000 was appropriated for housing grants, and $557,000 was retained for Training and Technical Assistance.

For PY 2022, the funding level provided for in the Act for the migrant and seasonal farmworker program is $95,396,000. Congress provided $88,283,000 for formula grants (of which $88,160,000 was allotted after $123,000 was set aside for program integrity), $6,456,000 for migrant and seasonal farmworker housing (of which $6,447,000 was allotted after $9,000 was set aside for program integrity and of which not less than 70 percent shall be for permanent housing), and another $657,000 was set aside for discretionary purposes.

For purposes of illustrating the effects of the updates to the allotment formula, columns 2 and 3 show the state allotments with the application of the 95 percent hold-harmless for PY 2021 and 90 percent hold-harmless for PY 2022. The dollar difference between PY 2022 and PY 2021 allotments is shown in column 4. The percent difference is reported in column 5.

Angela Hanks,
Acting Assistant Secretary, Employment and Training, Labor.

U.S. Department of Labor, Employment and Training Administration, National Farmworker Jobs Program—Career Services and Training Grants
[PY 2022 Impact to allotments to states with Stop Loss/Stop Gain]
State | PY 2021 95% StopLoss/ 150% StopGain | PY 2022 90% StopLoss/ 150% StopGain | $ Difference | % Difference
Total | $86,946,000 | $88,160,000 | $1,214,000 | 1.40
Alabama | 776,866 | 776,212 | (654) | −0.08
Alaska |  |  |  | 0.00
Arizona | 2,459,822 | 2,553,478 | 93,656 | 3.81
Arkansas | 1,193,276 | 1,265,495 | 72,219 | 6.05
California | 22,613,160 | 23,164,574 | 551,414 | 2.44
Colorado | 1,662,689 | 1,763,318 | 100,629 | 6.05
Connecticut | 501,264 | 531,602 | 30,338 | 6.05
Delaware | 154,593 | 163,949 | 9,356 | 6.05
Dist of Columbia |  |  |  | 0.00
Florida | 3,647,531 | 3,328,614 | (318,917) | −8.74
Georgia | 1,656,566 | 1,756,823 | 100,257 | 6.05
Hawaii | 312,122 | 284,832 | (27,290) | −8.74
Idaho | 2,194,625 | 2,327,447 | 132,822 | 6.05
Illinois | 1,829,288 | 1,939,999 | 110,711 | 6.05
Indiana | 1,229,140 | 1,303,529 | 74,389 | 6.05
Iowa | 1,756,778 | 1,863,100 | 106,322 | 6.05
Kansas | 1,243,435 | 1,318,690 | 75,255 | 6.05
Kentucky | 1,011,993 | 923,511 | (88,482) | −8.74
Louisiana | 782,626 | 829,992 | 47,366 | 6.05
Maine | 408,044 | 432,739 | 24,695 | 6.05
Maryland | 521,061 | 552,597 | 31,536 | 6.05
Massachusetts | 512,780 | 543,815 | 31,035 | 6.05
Michigan | 2,073,573 | 2,199,069 | 125,496 | 6.05
Minnesota | 1,579,601 | 1,668,177 | 88,576 | 5.61
Mississippi | 995,074 | 924,370 | (70,704) | −7.11
Missouri | 1,219,415 | 1,293,215 | 73,800 | 6.05
Montana | 699,452 | 741,784 | 42,332 | 6.05
Nebraska | 1,255,552 | 1,322,506 | 66,954 | 5.33
Nevada | 223,924 | 237,476 | 13,552 | 6.05
New Hampshire | 145,953 | 154,787 | 8,834 | 6.05
New Jersey | 769,856 | 816,449 | 46,593 | 6.05
New Mexico | 1,067,856 | 1,132,485 | 64,629 | 6.05
New York | 2,169,172 | 2,300,453 | 131,281 | 6.05
North Carolina | 2,556,903 | 2,333,344 | (223,559) | −8.74
North Dakota | 802,462 | 780,688 | (21,774) | −2.71
Ohio | 1,437,210 | 1,524,192 | 86,982 | 6.05
Oklahoma | 976,292 | 928,725 | (47,567) | −4.87
Oregon | 2,371,922 | 2,340,449 | (31,473) | −1.33
Pennsylvania | 1,762,208 | 1,868,860 | 106,652 | 6.05
Puerto Rico | 2,346,090 | 2,140,963 | (205,127) | −8.74
Rhode Island | 64,858 | 68,784 | 3,926 | 6.05
South Carolina | 786,239 | 717,495 | (68,744) | −8.74
South Dakota | 665,710 | 706,000 | 40,290 | 6.05
Tennessee | 867,124 | 791,308 | (75,816) | −8.74
Texas | 5,118,941 | 4,671,373 | (447,568) | −8.74
Utah | 653,979 | 693,559 | 39,580 | 6.05
Vermont | 204,723 | 217,113 | 12,390 | 6.05
Virginia | 971,653 | 886,698 | (84,955) | −8.74
Washington | 4,510,391 | 4,783,367 | 272,976 | 6.05
West Virginia | 150,612 | 137,443 | (13,169) | −8.74
Wisconsin | 1,719,060 | 1,823,100 | 104,040 | 6.05
Wyoming | 312,536 | 331,452 | 18,916 | 6.05

[FR Doc. 2022-10895 Filed 5-19-22; 8:45 am]

BILLING CODE 4510-FN-P